DEPARTMENT OF ENERGY

Federal Energy Regulatory Commission

[Docket No. EC01-7-000]

Central Hudson Gas & Electric Corporation; Notice of Filing

November 22, 2000.

Take notice that on November 21, 2000, Central Hudson Gas & Electric Corporation (Central Hudson) filed with the Federal Energy Regulatory Commission a letter clarifying the nature of a proposed transaction transferring its Danskammer generating units to Dynegy Danskammer L.L.C., as described in a previous filing in the above referenced proceeding.

Central Hudson states that copies of these materials were sent to all parties appearing on the service list in the above referenced docket.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 1, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30408 Filed 11-28-00; 8:45 am]

BILLING CODE 6717-01-M